DEPARTMENT OF THE INTERIOR

National Park Service

[NPS-WASO-NAGPRA-0022767; PPWOCRADN0-PCU00RP14.R50000]

Notice of Inventory Completion: Vanderbilt University, Nashville, TN

AGENCY: National Park Service, Interior.

ACTION: Notice.

SUMMARY: Vanderbilt University has completed an inventory of human remains and associated funerary objects in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to Vanderbilt University. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to Vanderbilt University at the address in this notice by March 27, 2017.

ADDRESSES: Arrin Richards, Assistant General Counsel, Vanderbilt University, 2100 West End Avenue, Suite 750, Nashville, TN 37203, telephone (615) 322-5157, email arrin.k.richards@vanderbilt.edu.

SUPPLEMENTARY INFORMATION: Notice is here given in accordance with the Native American Graves Protection and Repatriation Act (NAGPRA), 25 U.S.C. 3003, of the completion of an inventory of human remains and associated funerary objects under the control of the Vanderbilt University. The human remains and associated funerary objects were removed from the Arnold Village site in Brentwood, Williamson County, TN.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed inventory of the human remains was made by Vanderbilt University Associate Professor of Anthropology, Tiffiny A. Tung. An assessment of the human remains was made in consultation with Professor Tiffiny Tung, Professor Beth Conklin (Chair of the Department of Anthropology), Arrin Richards (Vanderbilt University Counsel), and representatives of the Cherokee Nation, Eastern Band of Cherokee Indians, The Chickasaw Nation, The Choctaw Nation of Oklahoma, The Muscogee (Creek) Nation, and United Keetoowah Band of Cherokee Indians in Oklahoma.

History and Description of the Remains

Between 1966 and 1967, human remains representing, at minimum, 208 individuals were removed from the Arnold Village site in Williamson County, TN. The Southeastern Indian Antiquities Survey Inc. (SIAS) excavated the site when it “was threatened with partial destruction” (Ferguson 1972: page 5) by the planned construction of homes. The Ferguson report indicates that the ceramic sherds from Burial #38 were transferred to the University of Tennessee (presumably at Knoxville) (Ferguson 1972: page 30), and Charles Nash (from Memphis State University) also examined the Arnold site ceramics, suggesting that some ceramics may have been transferred to Memphis State University. Excavations at the Arnold site uncovered the remnants of 17 ancient house structures and 151 graves of the “stone box” style (i.e., the tomb is made of upright stone slabs laid in a rectangular shape, wide at the upper end and narrow at the lower end). No known individuals were identified. The 2 associated funerary objects are two ceramic artifacts. Other associated funerary objects reported by Ferguson are not under the control of Vanderbilt University. The associated funerary objects were determined to be what archeologists term the “Middle Cumberland Culture,” which falls within the “Mississippian period,” a chronology that places the human remains and associated funerary objects squarely within the pre-contact era. This chronology is further supported by a radiocarbon date from a femur bone fragment. Available evidence suggests that the Arnold site dates to A.D. 1250, plus or minus approximately 100 years. Additional evidence that the human skeletons are Native American is the shovel-shaped incisors (a dental trait interpreted by archaeologists as biological evidence of Native American affiliation) and cranial modification (an earlier cultural practice affiliated with Native American identity).

Determinations Made by Vanderbilt University

Officials of Vanderbilt University have determined that:

• Pursuant to 25 U.S.C. 3001(9), the human remains described in this notice are Native American based on the archeological context and radiocarbon dating.

• Pursuant to 25 U.S.C. 3001(9), the human remains described in this notice represent the physical remains of 208 individuals of Native American ancestry.

• Pursuant to 25 U.S.C. 3001(3)(A), 2 ceramic objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• The Treaty of 1805 indicates that the land from which the Native American human remains and associated funerary objects were removed is the aboriginal land of the Eastern Band of Cherokee Indians, The Chickasaw Nation, and United Keetoowah Band of Cherokee Indians.

• Pursuant to 43 CFR 10.11(c)(1), the disposition of the human remains and associated funerary objects may be to the Eastern Band of Cherokee Indians, The Chickasaw Nation, and United Keetoowah Band of Cherokee Indians.

Additional Requestors and Disposition

Representatives of any Indian tribe or Native Hawaiian organization not identified in this notice that wish to request transfer of control of these human remains and associated funerary objects should submit a written request with information in support of the request to Arrin Richards, Assistant General Counsel, Vanderbilt University, 2100 West End Avenue, Suite 750, Nashville, TN 37203, telephone (615) 322-5157, email arrin.k.richards@vanderbilt.edu, by March 27, 2017. After that date, if no additional requestors have come forward, transfer of control of the human remains and associated funerary objects to the Eastern Band of Cherokee Indians, The Chickasaw Nation, and United Keetoowah Band of Cherokee Indians may proceed.

Vanderbilt University is responsible for notifying the Eastern Band of Cherokee Indians, The Chickasaw Nation, and United Keetoowah Band of Cherokee Indians that this notice has been published.

Dated: January 19, 2017.
Melanie O'Brien,
Manager, National NAGPRA Program.

[FR Doc. 2017-03612 Filed 2-23-17; 8:45 am]

BILLING CODE 4312-52-P